ENVIRONMENTAL PROTECTION AGENCY

40 CFR Part 52

[EPA-R05-OAR-2010-0556; FRL-9198-1]

Approval and Promulgation of Air Quality Implementation Plans; Minnesota; Carbon Monoxide (CO) Limited Maintenance Plan for the Twin Cities Area

AGENCY: Environmental Protection Agency (EPA).

ACTION: Proposed rule.

SUMMARY: EPA is proposing to approve a request submitted by the Minnesota Pollution Control Agency (MPCA) on June 16, 2010, to revise the Minnesota State Implementation Plan (SIP) for carbon monoxide (CO) under the Clean Air Act (CAA). The State has submitted a limited maintenance plan for CO showing continued attainment of the CO National Ambient Air Quality Standard (NAAQS) in the Minneapolis-St. Paul (Twin Cities) area. The one hour CO NAAQS and eight hour CO NAAQS are 35 parts per million (ppm), and 9 ppm, respectively. This limited maintenance plan satisfies section 175A of the CAA, and is in accordance with EPA's October 29, 1999, approval of the State's redesignation request and maintenance plan for the Twin Cities area. Additionally, this limited maintenance plan for CO satisfies the requirements contained in the October 6, 1995, EPA memorandum entitled “Limited Maintenance Plan Option for Nonclassifiable CO Nonattainment Areas.”

DATES: Comments must be received on or before October 12, 2010.

ADDRESSES: Submit your comments, identified by Docket ID No. EPA-R05-OAR-2010-0556, by one of the following methods:

1. http://www.regulations.gov: Follow the on-line instructions for submitting comments.

2. E-mail: bortzer.jay@epa.gov.

3. Fax: (312) 692-2054.

4. Mail: Jay Bortzer, Chief, Air Programs Branch (AR-18J), U.S. Environmental Protection Agency, 77 West Jackson Boulevard, Chicago, Illinois 60604.

5. Hand Delivery: Jay Bortzer, Chief, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Please see the direct final rule which is located in the Final Rules section of this Federal Register for detailed instructions on how to submit comments.

FOR FURTHER INFORMATION CONTACT: Andy Chang, Environmental Engineer, Air Planning and Maintenance Section, Air Programs Branch (AR-18J), Environmental Protection Agency, Region 5, 77 West Jackson Boulevard, Chicago, Illinois 60604, (312) 886-0258, chang.andy@epa.gov.

SUPPLEMENTARY INFORMATION: In the Final Rules section of this Federal Register, EPA is approving the State's SIP submittal as a direct final rule without prior proposal because the Agency views this as a noncontroversial submittal and anticipates no adverse comments. A detailed rationale for the approval is set forth in the direct final rule. If no adverse comments are received in response to this rule, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment. For additional information, see the direct final rule which is located in the Rules section of this Federal Register.

Dated: August 26, 2010.
Bharat Mathur,
Acting Regional Administrator, Region 5.

[FR Doc. 2010-22339 Filed 9-8-10; 8:45 am]

BILLING CODE 6560-50-P